DEPARTMENT OF LABOR

Employment and Training Administration

[TA-W-39,672]

GKN Sintered Metal Kersey Division, Kersey, Pennsylvania; Notice of Termination of Investigation

Pursuant to section 221 of the Trade Act of 1974, an investigation was initiated on July 23, 2001 in response to a petition filed on behalf of workers at GKN Sintered Metal, Kersey Division, Kersey, Pennsylvania.

Some of the petitioners did not work at GKN Sintered Metal, Kersey Division, Kersey, Pennsylvania. Therefore, the petition is invalid. Consequently, further investigation in this case would serve no purpose, and the investigation has been terminated.

Signed in Washington, DC this 30th day of July, 2001.
Linda G. Poole,
Certifying Officer, Division of Trade Adjustment Assistance.

[FR Doc. 01-20470 Filed 8-14-01; 8:45 am]

BILLING CODE 4510-30-M